DEPARTMENT OF LABOR

Employment and Training Administration

[TA-W-39,224]

Centis, Inc.; Formerly Known as 20th Century Plastics; Brea, CA; Amended Certification Regarding Eligibility To Apply for Worker Adjustment Assistance

In accordance with section 223 of the Trade Act of 1974 (19 U.S.C. 2273) the Department of Labor issued a Certification of Eligibility to Apply for Worker Adjustment Assistant on August 20, 2001, applicable to workers of Centis, Inc., Brea, California. The notice was published in the Federal Register on September 11, 2001 (66 FR 47243).

At the request of the State agency, the Department reviewed the certification for workers of the subject firm. The workers are engaged in the production of thin sheer transparent plastic page protectors. The subject firm originally named 20th Century Plastics was renamed Centis, Inc. in January 2000. The State agency reports that some workers wages at the subject firm are being reported under the Unemployment Insurance (UI) tax account for Centis, Inc., formerly known as 20th Century Plastics, Brea, California.

Accordingly, the Department is amending the certification to properly reflect this matter.

The intent of the Department's certification is to include all workers of Centis, Inc. who were adversely affected by imports.

The amended notice applicable to TA-W-39,224 is hereby issued as follows:

All workers of Centis Inc., formerly known as 20th Century Plastics, Brea, California who became totally or partially separated from employment on or after April 25, 2000, through August 20, 2003, are eligible to apply for adjustment assistance under Section 223 of the Trade Act of 1974.

Signed at Washington, DC this 29th day of November, 2001.
Linda G. Poole,
Certifying Officer, Division of Trade Adjustment Assistance.

[FR Doc. 01-31141 Filed 12-17-01; 8:45 am]

BILLING CODE 4510-30-M